DEPARTMENT OF HEALTH AND HUMAN SERVICES

Administration for Children and Families

Submission for OMB Review; Survey on Where Parents Look for and Find Information and How They Use Information When Selecting Child Care (New Collection)

AGENCY: Office of Planning, Research, and Evaluation, Administration for Children and Families, U.S. Department of Health and Human Services.

ACTION: Request for public comments.

SUMMARY: The Administration for Children and Families (ACF) within the U.S. Department of Health and Human Services (HHS) is proposing to collect nationally representative survey data to learn more about where parents look for and find information about Child Care and Early Education (CCEE); how parents assess the people, places, or things that may offer CCEE information; what types of CCEE information parents look for; and how parents use information to make CCEE selections. The study aims to gather information that may be used by Child Care Lead Agencies to inform their consumer education efforts.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: ACF has contracted with NORC to implement this study, which is part of the Consumer Education and Parental Choice in Early Care and Education (CEPC) project. The study will select a nationally representative sample from NORC's probability-based AmeriSpeak panel. The AmeriSpeak panel provides sample coverage of approximately 97 percent of the U.S. population. It currently contains 48,900 panel members age 13 and over residing in over 40,000 households. U.S. households are randomly selected with a known, non-zero probability from the NORC National Frame, and then recruited by mail, telephone, and by field interviewers face-to-face. NORC's in-person recruitment enhances representativeness for young adults, lower socio-economic households, non-internet households, and other households that are typically hard to reach for statistical surveys of the population.

We will collect information about (a) where parents look for and find information about CCEE; (b) how parents assess the people, places, or things that may offer CCEE information; (c) how easy or hard it is for parents to find CCEE information, (d) the types of CCEE information that parents look for and say are helpful in choosing CCEE; (e) information about the last time parents made a decision about CCEE and what information they tried to learn about at that time; (f) parent's assessments of the CCEE options at the time they made their last CCEE decision; (g) how well parents' CCEE decision met their family's needs; and (h) demographic information about families.

Respondents: AmeriSpeak panelists who indicated that they have a young child in the household will be invited to complete the survey if they are at least 18 years of age. If a household has two or more panel members who reside in a household with a young child, one will be selected at random to complete the survey, with preference given to parents/legal guardians. Selected panelists will be asked questions to confirm eligibility for the survey, including that the household has at least one child under the age of 6 but not in kindergarten.

Annual Burden Estimates:

Instrument | Number of respondents (total over request period) | Number of responses per respondent (total over request period) | Average burden per response (in hours) | Total/annual burden (in hours)
Parent Survey Questionnaire (Section AE Only) | 2,100 | 1 | .08 | 168
Parent Survey Questionnaire (Section A-DA) | 1,500 | 1 | .25 | 375

Estimated Total Annual Burden Hours: 543.

Authority: Child Care and Development Block Grant (CCDBG) Act of 1990, as amended (42 U.S.C. 9857 et seq.).

Mary B. Jones,
ACF/OPRE Certifying Officer.

[FR Doc. 2024-00395 Filed 1-10-24; 8:45 am]

BILLING CODE 4184-23-P